DEPARTMENT OF THE INTERIOR

National Park Service

[NPS-WASO-NAGPRA-NPS0037715; PPWOCRADN0-PCU00RP14.R50000]

Notice of Inventory Completion: Dickinson State University, Dickinson, ND

AGENCY: National Park Service, Interior.

ACTION: Notice.

SUMMARY: In accordance with the Native American Graves Protection and Repatriation Act (NAGPRA), Dickinson State University has completed an inventory of human remains and has determined that there is a cultural affiliation between the human remains and Indian Tribes or Native Hawaiian organizations in this notice.

DATES: Repatriation of the human remains in this notice may occur on or after May 13, 2024.

ADDRESSES: Holly Gruhlke, Dickinson State University, 291 Campus Drive, Dickinson, ND 58601, telephone (701) 502-2080, email holly.gruhlke@dickinsonstate.edu.

SUPPLEMENTARY INFORMATION: This notice is published as part of the National Park Service's administrative responsibilities under NAGPRA. The determinations in this notice are the sole responsibility of Dickinson State University, and additional information on the determinations in this notice, including the results of consultation, can be found in the inventory or related records. The National Park Service is not responsible for the determinations in this notice.

Abstract of Information Available

Based on the information available, human remains representing, at least, four individuals have been reasonably identified. No associated funerary objects are present.

Human remains representing, at minimum, four individuals were presumably removed from Stark County, ND. These remains consist of the following, with the assumption of affiliation with the Three Affiliated Tribes of the Fort Berthold Reservation, North Dakota, presumed to belong to four individuals, consisting of the following inventory of remains: three crania; one skull; one thoracic vertebra; three reassociated sets of postcranial remains from three individuals: Right femur, right fibula, left radius, two left ribs, one lumbar vertebra. The right femur is transected at midshaft. Left femur, left tibia, left fibula, right talus. The left femur consists of five large fragments. Right tibia, left ulna, right os coxa, two right ribs, one lumbar vertebra. The right tibia is fractured postmortem from weather and wear. The remains are in variable condition. Two crania consisting of the anterior portion of the skull are in poor condition. One cranium is complete with fracturing to delicate bones and protuberances is colored a rich, mottled brown and is light weight and friable. The skull is complete and is in good condition. The postcranial remains are in good-to-poor condition from environmental exposure and subsequent use.

Cultural Affiliation

Based on the information available and the results of consultation, cultural affiliation is reasonably identified by the geographical location.

Determinations

Dickinson State University has determined that:

• The human remains described in this notice represent the physical remains of approximately four individuals of Native American ancestry.

• There is a reasonable connection between the human remains described in this notice and the Three Affiliated Tribes of the Fort Berthold Reservation, North Dakota.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after May 13, 2024. If competing requests for repatriation are received, Dickinson State University must determine the most appropriate requestor prior to repatriation. Requests for joint repatriation of the human remains are considered a single request and not competing requests. Dickinson State University is responsible for sending a copy of this notice to the Indian Tribes and Native Hawaiian organizations identified in this notice.

Authority: Native American Graves Protection and Repatriation Act, 25 U.S.C. 3003, and the implementing regulations, 43 CFR 10.10.

Dated: April 2, 2024.
Melanie O'Brien,
Manager, National NAGPRA Program.

[FR Doc. 2024-07714 Filed 4-10-24; 8:45 am]

BILLING CODE 4312-52-P